DEPARTMENT OF LABOR

Employment and Training Administration

[TA-W-56,528]

Hussmann Corporation, Bridgeton, Missouri; Notice of Revised Determination of Alternative Trade Adjustment Assistance on Reconsideration

In a letter dated April 5, 2005, the United Steelworkers of America requested administrative reconsideration regarding Alternative Trade Adjustment Assistance (ATAA) for workers of the subject firm. The certification for Trade Adjustment Assistance was signed on March 9, 2005. The Notice of determination was published in the Federal Register on April 1, 2005 (70 FR 16848).

The initial investigation determined that the subject worker group possesses skills that are easily transferable.

Because the company was unable to provide information whether the workers possess skills that are or are not easily transferable, the Department contacted the Missouri State Dislocated Worker Unit in St. Louis, Missouri for information. According to the state representative, workers possess skills which are not easily transferable to other positions in the local area and that conditions in the industry are adverse.

The initial investigation revealed that at least five percent of the workforce at the subject from is at least fifty years of age.

Conclusion

After careful review of the additional facts obtained on reconsideration, I conclude that the requirements of Section 246 of the Trade Act of 1974, as amended, have been met for workers at the subject firm.

In accordance with the provisions of the Act, I make the following certification:

All workers of Hussmann Corporation, Bridgeton, Missouri, who became totally or partially separated from employment on or after February 7, 2004 through March 9, 2007, are eligible to apply for adjustment assistance under Section 223 of the Trade Act of 1974, and are also eligible to apply for alternative trade adjustment assistance under Section 246 of the Trade Act of 1974.

Signed in Washington, DC, this 26th day of April, 2005.
Elliott S. Kushner,
Certifying Officer, Division of Trade Adjustment Assistance.

[FR Doc. E5-2402 Filed 5-13-05; 8:45 am]

BILLING CODE 4510-30-P